NUCLEAR REGULATORY COMMISSION

10 CFR Part 72

[NRC-2013-0051]

Shielding and Radiation Protection Review Effort and Licensing Conditions for Dry Storage Applications

AGENCY: Nuclear Regulatory Commission.

ACTION: Draft interim staff guidance; request for public comment.

SUMMARY: The U.S. Nuclear Regulatory Commission (NRC) requests public comment on Draft Spent Fuel Storage and Transportation Interim Staff Guidance No. 26A (SFST-ISG-26A), Revision 0, “Shielding and Radiation Protection Review Effort and Licensing Conditions for 10 CFR Part 72 Applications.”

DATES: Submit comments by May 13, 2013. Comments received after this date will be considered, if it is practical to do so; however, the NRC staff is only able to ensure consideration of comments received on or before this date.

ADDRESSES: You may access information and comment submissions related to this document, which the NRC possesses and is publicly available, by searching on http://www.regulations.gov under Docket ID NRC-2013-0051. You may submit comments by any the following methods:

• Federal Rulemaking Web Site: Go to http://www.regulations.gov and search for Docket ID NRC-2013-0051. Address questions about NRC dockets to Carol Gallagher; telephone: 301-492-3668; email: Carol.Gallagher@nrc.gov.

• Mail Comments to: Cindy Bladey, Chief, Rules, Announcements, and Directives Branch (RADB), Office of Administration, Mail Stop: TWB-05-B01M, U.S. Nuclear Regulatory Commission, Washington, DC 20555-0001.

• Fax Comments to: RDB at 301-492-3446.

For additional direction on accessing information and submitting comments, see “Accessing Information and Submitting Comments” in the SUPPLEMENTARY INFORMATION section of this document.

FOR FURTHER INFORMATION CONTACT: Mr. Michel Call, Office of Nuclear Material Safety and Safeguards, U.S. Nuclear Regulatory Commission, Washington, DC 20555-0001; telephone: 301-492-3289; email: Michel.Call@nrc.gov.

SUPPLEMENTARY INFORMATION:

I. Accessing Information and Submitting Comments

A. Accessing Information

Please refer to Docket ID NRC-2013-0051 when contacting the NRC about the availability of information regarding this document. You may access information related to this document by any of the following methods:

• Federal Rulemaking Web site: Go to http://www.regulations.gov and search for Docket ID NRC-2013-0051.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft SFST-ISG-26A, Revision 0 is available electronically under ADAMS Accession No. ML13010A570.

• NRC's PDR: You may examine and purchase copies of public documents at the NRC's PDR, Room O1-F21, One White Flint North, 11555 Rockville Pike, Rockville, Maryland 20852.

B. Submitting Comments

Please include Docket ID NRC-2013-0051 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The draft SFST-ISG provides guidance to NRC staff when reviewing the shielding and radiation protection portions of applications for certificates of compliance (CoC), specific licenses, and amendments submitted in accordance with part 72 of Title 10 of the Code of Federal Regulations (10 CFR), “Licensing Requirements for the Independent Storage of Spent Nuclear Fuel, High-Level Radioactive Waste, and Reactor-Related Greater Than Class C Waste,” (10 CFR part 72) Subpart L, “Approval of Spent Fuel Storage Casks,” and Subpart B, “License Application, Form, and Contents.” The draft SFST-ISG-26A proposes to revise the shielding and radiation protection review procedures contained in NUREG-1536, Revision 1, “Standard Review Plan for Spent Fuel Dry Storage Systems at a General License Facility,” and NUREG-1567, “Standard Review Plan for Spent Fuel Dry Storage Facilities.” The draft SFST-ISG revises these review procedures by enhancing their prioritization; providing guidance regarding conditions the staff should include in certificates of compliance, specific licenses, and associated technical specifications; and providing guidance regarding the analyses that the staff should verify are included by applicants in applications submitted under 10 CFR Part 72 and the staff's evaluation of those analyses.

III. Background

The NRC issues SFST-ISGs to communicate insights and lessons learned and to address emergent issues not covered in SFST Standard Review Plans (SRPs). In this way, the NRC staff and stakeholders may use the guidance in an SFST-ISG document before it is incorporated into a formal SRP revision.

The NRC has developed draft SFST-ISG-26A, Revision 0 to (1) enhance the prioritization of shielding and radiation protection review procedures to improve the effectiveness and efficiency of staff reviews of these areas; (2) provide guidance regarding the conditions that the staff should include in certificates of compliance, specific licenses, and associated technical specifications; and (3) provide guidance regarding the analyses that the staff should verify are included by applicants in applications submitted under 10 CFR Part 72 and the staff's evaluation of those analyses.

Proposed Action

By this action, the NRC is requesting public comments on draft SFST-ISG-26A. This SFST-ISG proposes certain revisions to NRC guidance on implementation of the requirements in 10 CFR Part 72. Along with comments on this draft SFST-ISG, the NRC invites the public to include suggestions for alternatives to the guidance, or parts thereof, proposed to address the two issues described in this draft SFST-ISG and to describe how those suggested alternatives adequately address the issues. The NRC also invites comments that include information regarding facility operations and exposures that support the comments or that the commenter thinks NRC should consider. The NRC will make a final determination regarding issuance of SFST-ISG-26A after it considers any public comments received in response to this request.

Backfitting and Issue Finality

This ISG provides guidance to the NRC staff reviewers on: (1) Establishing the priorities of NRC's shielding and radiation protection review procedures for applications for initial and amendments of spent nuclear fuel dry storage system CoCs and applications for specific-license independent spent fuel storage installation licenses and license amendments; (2) verifying the inclusion and evaluating the scope of applicant's analyses of radiation protection and shielding for these systems and installations; and (3) stating conditions the staff should include in CoCs, licenses, and technical specifications. Prioritization of staff review procedures, verification and evaluation of an applicant's analyses, and the determination of appropriate conditions to be included in CoCs, licenses, and technical specifications are not matters to which backfitting or issue finality protections apply. Staff implementation of such guidance in the context of applications does not result in backfitting or non-compliance with issue finality protection provisions. For this reason, the NRC has not prepared a backfit analysis for this ISG.

For the Nuclear Regulatory Commission.
Dated at Rockville, Maryland, this 13th day of March 2013.
Mark D. Lombard,
Director, Division of Spent Fuel Storage and Transportation, Office of Nuclear Material Safety and Safeguards.

[FR Doc. 2013-06387 Filed 3-28-13; 8:45 am]

BILLING CODE 7590-01-P